DEPARTMENT OF COMMERCE

National Oceanic and Atmospheric Administration

[I.D. 031204C]

Marine Mammals; File No. 350-1739

AGENCY: National Marine Fisheries Service (NMFS), National Oceanic and Atmospheric Administration (NOAA), Commerce.

ACTION: Receipt of application.

SUMMARY: Notice is hereby given that Brendan Kelly, Ph.D., University of Alaska Southeast, 11120 Glacier Highway, Juneau, Alaska 99801, has applied in due form for a permit to take ringed seals (Phoca hispida) for purposes of scientific research.

DATES: Written, telefaxed, or e-mail comments must be received on or before April 16, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 350-1739.

FOR FURTHER INFORMATION CONTACT: Amy Sloan or Ruth Johnson, (301)713-2289.

SUPPLEMENTARY INFORMATION: The subject permit is requested under the authority of the Marine Mammal Protection Act of 1972, as amended (MMPA; 16 U.S.C. 1361 et seq.), and the Regulations Governing the Taking and Importing of Marine Mammals (50 CFR part 216).

The applicant proposes to study site fidelity, behavior, and the ecological significance of home ranges of ringed seals in the Prudhoe Bay, Alaska region of the Beaufort Sea. This will be accomplished through capturing, genetics sampling, and tagging with flipper and VHF tags up to 50 ringed seals per year. Of these, up to 15 seals would have satellite tags attached, 10 would have sonic transmitters attached, and 10 would have video cameras attached. The applicant requests a five-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 12, 2004.
Amy C. Sloan,
Acting Chief, Permits, Conservation and Education Division, Office of Protected Resources, National Marine Fisheries Service.

[FR Doc. 04-6050 Filed 3-16-04; 8:45 am]

BILLING CODE 3510-22-S